NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 31, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Permit Application: 2017-002. Deneb Karentz, Department of Biology, University of San Francisco, San Francisco, CA 94117.

Activity for Which Permit Is Requested

Introduce non-indigenous species into Antarctica. Gene cloning kits that contain the bacterium Escherichia coli will be used in the Palmer Station laboratory for genomic research, specifically to investigate genetic characteristics of bacteria and protists from seawater samples. The E. coli will be handled with standard laboratory safety protocols, they will not be released into the environment, and they will be killed by autoclaving per routine procedures. This permit is being requested for research activities under the NSF-funded grant entitled “Collaborative research: Biological adaptations to environmental change in Antarctica—An advanced training program for early-career scientists.”

Location

Palmer Station, Anvers Island and McMurdo Station, Ross Island, Antarctica.

Dates

June 24, 2016-March 1, 2018.

Nadene G. Kennedy,
Polar Coordination Specialist, Division of Polar Programs.

[FR Doc. 2016-10054 Filed 4-28-16; 8:45 am]

BILLING CODE 7555-01-P